DEPARTMENT OF THE INTERIOR

Bureau of Land Management

[16XL1109AF LLUT030000 L16100000.PH0000 241A]

Notice of Grand Staircase-Escalante National Monument Advisory Committee Meeting

AGENCY: Bureau of Land Management, Interior.

ACTION: Notice.

SUMMARY: In accordance with the Federal Land Policy and Management Act (FLPMA) and the Federal Advisory Committee Act of 1972 (FACA), the Department of the Interior, Bureau of Land Management (BLM), Grand Staircase-Escalante National Monument Advisory Committee (GSENMAC) will meet as indicated below.

DATES: The GSENM MAC will meet Friday, August 5, 2016, (10 a.m.-4 p.m.) in Escalante, Utah.

ADDRESSES: The Committee will meet at the Escalante Interagency Visitor Center, located at 755 West Main Street, Escalante, Utah.

FOR FURTHER INFORMATION CONTACT: Larry Crutchfield, Public Affairs Officer, Grand Staircase-Escalante National Monument, Bureau of Land Management, 669 South Highway 89A, Kanab, Utah 84741; phone (435) 644-1209.

SUPPLEMENTARY INFORMATION: The 15-member GSENMAC was appointed by the Secretary of Interior on January 23, 2016, pursuant to the Monument Management Plan, the Federal Land Policy and Management Act of 1976 (FLPMA), and the Federal Advisory Committee Act of 1972 (FACA). As specified the Committee charter, the GSENMAC may be requested to: (1) Gather and analyze information, conduct studies and field examinations, seek public input or ascertain facts to develop recommendations concerning the use and management of the Monument; (2) Review programmatic documents including the annual Monument Manager's Reports, and Monument Science Plans to provide recommendations on the achievement of the Management Plan objectives; (3) Compile monitoring data and assess and advise the DFO of the extent to which the Plan objectives are being met; (4) Make recommendations on Monument protocols and applicable planning projects to achieve the overall objectives are being met; (5) Review appropriate research proposals and make recommendations on project necessity and validity; (6) Make recommendations regarding allocation of research funds through review of research and project proposals as well as needs identified through the evaluation process; (7) Consult and make recommendations on issues such as protocols for specific projects, e.g., vegetation restoration methods or standards for excavation and curation of artifacts and objects; and/or (8) Prepare an annual report summarizing the Committee's activities and accomplishments of the past year, and make recommendations for future needs and activities.

Topics to be discussed by the GSENMAC during this meeting include new member orientation (MAC Charter, By-laws, FACA committee guidelines and responsibilities), the ongoing Livestock Grazing Management Plan Amendment and Associated Environmental Impact Statement (LGMPA/AEIS), GSENM division reports, future meeting dates and other matters as may reasonably come before the GSENMAC.

The entire meeting is open to the public. Members of the public are welcome to address the Committee at 3:00 p.m., local time, on August 5, 2016. Depending on the number of persons wishing to speak, a time limit could be established. Interested persons may make oral statements to the GSENMAC during this time or written statements may be submitted for the GSENMAC's consideration. Written statements can be sent to: Grand Staircase-Escalante National Monument, Attn.: Larry Crutchfield, 669 South Highway 89A, Kanab, Utah, 84741. Information to be distributed to the GSENMAC is requested 10 days prior to the start of the GSENMAC meeting.

All meetings are open to the public; however, transportation, lodging, and meals are the responsibility of the participating public.

Raul Morales,
Acting State Director.

[FR Doc. 2016-14852 Filed 6-22-16; 8:45 am]

BILLING CODE 4310-DQ-P